DEPARTMENT OF ENERGY

Federal Energy Regulatory Commission

[Docket No. RP01-81-000]

Tennessee Gas Pipeline Company; Notice of Proposed Changes in FERC Gas Tariff

November 9, 2000.

Take notice that on November 3, 2000, Tennessee Gas Pipeline Company (Tennessee), as part of its FERC Gas Tariff, Fifth Revised Volume No. 1, original and revised tariff sheets listed in Appendix A to the filing, with an effective date of December 14, 2000.

Tennessee states that the tariff sheets setting a new rate schedule Rate Schedule FT-H pursuant to which Tennessee will provide a firm hourly transportation service which would allow shippers to take delivery of their scheduled quantity at an hourly rate that exceeds 1/24th of such scheduled quantity. FT-H service will be available on an open access, non-discriminatory basis to all shippers who meet the eligibility requirements for such service.

Tennessee states that under Rate Schedule FT-H, Tennessee will transport natural gas for a shipper up to a specified daily transportation quantity (TQ) and allow the shipper to take delivery of its scheduled quantity up to a specified maximum hourly delivery quantity (MHQ). Under Rate Schedule FT-H, the MHQ must be no less than 1/18th of the TQ and no greater than ¼th of the TQ. Tennessee will provide the FT-H service only after it determines that it has sufficient uncommitted capacity to perform the service requested by a shipper. The FT-H service will not degrade the firm primary rights of any of Tennessee's existing firm shippers. Rate Schedule FT-H service will have the same scheduling and curtailment priority as Tennessee's other firm transportation services.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at ­http://www.ferc.fed.us/online/rims.htm (call 202-208-2222 for assistance). Comments and protests may be filed electronically via the internet in lieu of paper. See 18 CFR 385.2001(a)(1)(iii) and the instructions on the Commission's web site at http://www.ferc.fed.us/efi/doorbell.htm.

Linwood A. Watson, Jr.,
Acting Secretary.

[FR Doc. 00-29337 Filed 11-15-00; 8:45 am]

BILLING CODE 6717-01-M